DEPARTMENT OF TRANSPORTATION

Federal Aviation Administration

Notice of Intent of Waiver With Respect to Land; James M. Cox—Dayton International Airport, Dayton, OH

AGENCY: Federal Aviation Administration (FAA), DOT.

ACTION: Notice.

SUMMARY: The FAA is considering a proposal to change 14.32 acres of airport land from aeronautical use to non-aeronautical use at James M. Cox—Dayton International Airport, Dayton, OH. The aforementioned land is not needed for aeronautical use.

The property is a portion of the land used by a former air cargo facility located on the north side of the James M. Cox—Dayton International Airport. The land is currently improved with a 38,000 square foot building, associated parking and former aircraft ramp. The property proposed for release was acquired by the City of Dayton under FAA Grant Number: 3-39-0029-03. The City wishes to lease this parcel for non-aeronautical purposes at Fair Market Value. The proposed non-aeronautical land use is consistent with a compatible commercial/industrial development.

DATES: Comments must be received on or before March 4, 2019.

ADDRESSES: Documents are available for review by appointment at the FAA Detroit Airports District Office, Alex Erskine, Program Manager, 11677 South Wayne Road, Suite 107, Romulus, MI 48174. Telephone: (734) 229-2927/Fax: (734) 229-2950 and City of Dayton Department of Aviation Offices, 3600 Terminal Drive, Suite 300, Vandalia, OH, Ms. Suzanne Beck. Telephone: (937) 454-8216.

Written comments on the Sponsor's request must be delivered or mailed to: Alex Erskine, Program Manager, Federal Aviation Administration, Airports Detroit District Office, 11677 South Wayne Road, Suite 107, Romulus, MI 48174, Telephone Number: (734) 229-2915/FAX Number: (734) 229-2950.

FOR FURTHER INFORMATION CONTACT: Alex Erskine, Program Manager, Federal Aviation Administration, Airports Detroit District Office, 11677 South Wayne Road, Suite 107, Romulus, MI 48174, Telephone Number: (734) 229-2927/FAX Number: (734) 229-2950.

SUPPLEMENTARY INFORMATION: In accordance with section 47107(h) of Title 49, United States Code, this notice is required to be published in the Federal Register 30 days before modifying the land-use assurance that requires the property to be used for an aeronautical purpose.

The property is currently improved land being used on an interim basis by a trucking business. The proposed non-aeronautical land use would be for compatible commercial/industrial development, allowing the airport to become more self-sustaining. The airport will receive Fair Market Value for the lease of the land.

The lease revenue will be used in accordance with FAA's Policy and Procedures Concerning the Use of Airport Revenue, published in the Federal Register on February 16, 1999 (64 FR 7696).

This notice announces that the FAA is considering the release of the subject airport property at the James M. Cox—Dayton International Airport, Dayton, OH, from its obligations to be maintained for aeronautical purposes. Approval does not constitute a commitment by the FAA to financially assist in the change in use of the subject airport property nor a determination of eligibility for grant-in-aid funding from the FAA.

Property Description

Situated in the City of Dayton, County of Montgomery, and State of Ohio:

And known as being situated in Sections 5, 6, 7, and 8, Township 3, Range 6 East, City of Dayton, County of Montgomery, State of Ohio and being a part of Lot Numbers 81143 and 81150 of the Consecutive numbers of lots on the revised plat of said City of Dayton, the same being part of those tracts of land conveyed by deed to the City of Dayton, Ohio as recorded in Deed Microfiche No. 81-041A01 and Deed Microfiche No. 81-101C07 (all references to deeds, microfiche, plats, surveys, etc. refer to the records of the Montgomery County Recorder's Office, unless noted otherwise) and being more particularly bounded and described as follows:

Beginning at the intersection of the centerline of Peters Pike and the South right of way line of Old Springfield Road, said intersection being South 05 deg. 18′03″ East a distance of 30.07 feet from a railroad spike (found) at the centerline intersection of said Peters Pike and Old Springfield Road;

Thence along the South right-of-way of vacated Old Springfield Road, South 79 deg. 45′06″ West a distance of 380.96 feet;

Thence departing the South right of way line of said vacated Old Springfield Road and over said City of Dayton land, on new division lines for the following seven (7) courses:

(1) South 33 deg. 31′39″ East a distance of 591.66 feet to a point;

(2) South 56 deg. 28′21″ West a distance of 682.23 feet to a point;

(3) North 33 deg. 31′40″ West a distance of 268.74 feet to a point;

(4) South 56 deg. 38′32″ West a distance of 89.30 feet to a point;

(5) North 71 deg. 15′16″ West a distance of 196.91 feet to a point;

(6) North 33 deg. 19′07″ West a distance of 316.07 feet to a point;

(7) North 13 deg. 34′34″ West a distance of 215.42 feet to a point;

Thence along said South Right of Way line of Old Springfield Road North 79 deg. 45′06″ East a distance of 889.80 feet to the TRUE POINT OF BEGINNING;

SAID PARCEL OF LAND CONTAINING 14.32 ACRES, MORE OR LESS, HOWEVER TO ALL COVENANTS, CONDITIONS, RESTRICTIONS, RESERVATIONS, AND EASEMENTS CONTAINING IN ANY INSTRUMENT OF RECORD PERTAINING TO THE ABOVE DESCRIBED TRACT OF LAND. THIS DESCRIPTION WAS PREPARED FROM A FIELD SURVEY PERFORMED BY STEVEN J. LEESMAN OHIO LICENSE #8352.

Issued in Romulus, Michigan, on December 20, 2018.
John L. Mayfield, Jr.,
Manager, Detroit Airports District Office, FAA, Great Lakes Region.

[FR Doc. 2019-00760 Filed 1-31-19; 8:45 am]

BILLING CODE 4910-13-P